DEPARTMENT OF ENERGY

Federal Energy Regulatory Commission

Combined Notice of Filings #2

Take notice that the Commission received the following electric rate filings:

Docket Numbers: ER18-87-001.

Applicants: PJM Interconnection, L.L.C.

Description: Tariff Amendment: Errata to Make Corrections to Revisions in ER18-87-000 to be effective 4/1/2018.

Filed Date: 10/25/17.

Accession Number: 20171025-5145.

Comments Due: 5 p.m. ET 11/15/17.

Docket Numbers: ER18-156-000.

Applicants: Southern California Edison Company.

Description: § 205(d) Rate Filing: Amended LGIA Altagas Sonoran Energy Inc. Service Agreement No. 158 to be effective 10/26/2017.

Filed Date: 10/25/17.

Accession Number: 20171025-5101.

Comments Due: 5 p.m. ET 11/15/17.

Docket Numbers: ER18-157-000.

Applicants: DV Trading, LLC.

Description: Baseline eTariff Filing: DV Trading New Company's Tariff (Initial Tariff Baseline) to be effective 10/26/2017.

Filed Date: 10/25/17.

Accession Number: 20171025-5102.

Comments Due: 5 p.m. ET 11/15/17.

Docket Numbers: ER18-158-000.

Applicants: EnPowered.

Description: Baseline eTariff Filing: EnPowered USA, Inc. Market Based Rate Tariff to be effective 10/31/2017.

Filed Date: 10/25/17.

Accession Number: 20171025-5114.

Comments Due: 5 p.m. ET 11/15/17.

Docket Numbers: ER18-159-000.

Applicants: PJM Interconnection, L.L.C.

Description: § 205(d) Rate Filing: Interconnection Service Agreement SA No. 4810, Queue No. AA2-103 to be effective 9/27/2017.

Filed Date: 10/25/17.

Accession Number: 20171025-5142.

Comments Due: 5 p.m. ET 11/15/17.

Docket Numbers: ER18-160-000.

Applicants: MDU Resources Group, Inc.

Description: § 205(d) Rate Filing: Coyote Concurrence Filing to be effective 9/29/2010.

Filed Date: 10/25/17.

Accession Number: 20171025-5157.

Comments Due: 5 p.m. ET 11/15/17.

Docket Numbers: ER18-161-000.

Applicants: MDU Resources Group, Inc.

Description: § 205(d) Rate Filing: Big Stone Concurrence Filings to be effective 9/29/2010.

Filed Date: 10/25/17.

Accession Number: 20171025-5158.

Comments Due: 5 p.m. ET 11/15/17.

Docket Numbers: ER18-162-000.

Applicants: KASS Commodities.

Description: Tariff Cancellation: Cancellation of MBR Tariff to be effective 12/31/2017.

Filed Date: 10/25/17.

Accession Number: 20171025-5166.

Comments Due: 5 p.m. ET 11/15/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 25, 2017.
Nathaniel J. Davis, Sr.,
Deputy Secretary.

[FR Doc. 2017-23781 Filed 10-31-17; 8:45 am]

BILLING CODE 6717-01-P